DEPARTMENT OF HOMELAND SECURITY

U.S. Citizenship and Immigration Services

Agency Information Collection Activities: Form I-361, Extension of a Currently Approved Information Collection; Comment Request

ACTION: 60-Day Notice of Information Collection Under Review: Form I-361, Affidavit of Financial Support and Intent To Petition for Legal Custody for Public Law 97-359 Amerasian.

The Department of Homeland Security, U.S. Citizenship and Immigration Services (USCIS), will be submitting the following information collection request for review and clearance in accordance with the Paperwork Reduction Act of 1995. The information collection notice is published in the Federal Register to obtain comments from the public and affected agencies. Comments are encouraged and will be accepted for sixty days until April 16, 2012.

During this 60-day period, USCIS will be evaluating whether to revise the Form I-361. Should USCIS decide to revise Form I-361 we will advise the public when we publish the 30-day notice in the Federal Register in accordance with the Paperwork Reduction Act. The public will then have 30 days to comment on any revisions to the Form I-361.

Written comments and suggestions regarding items contained in this notice and especially with regard to the estimated public burden and associated response time should be directed to the Department of Homeland Security (DHS), USCIS, Chief, Regulatory Products Division, Office of the Executive Secretariat, Clearance Office, 20 Massachusetts Avenue NW., Washington, DC 20529-2020. Comments may also be submitted to DHS via facsimile to 202-272-0997, or via email at uscisfrcomment@dhs.gov. When submitting comments by email please add the OMB Control Number 1615-0021 in the subject box.

Written comments and suggestions from the public and affected agencies concerning the proposed collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved information collection.

(2) Title of the Form/Collection: Affidavit of Financial Support and Intent to Petition for Legal Custody for Public Law 97-359 Amerasian.

(3) Agency form number, if any, and the applicable component of the Department of Homeland Security sponsoring the collection: Form I-361. U.S. Citizenship and Immigration Services.

(4) Affected public who will be asked or required to respond, as well as a brief abstract: Primary: Individuals and households. The information on this form is used in support of Form I-360 (Petition for Amerasian, Widow(er), or Special Immigrant) to ensure financial support for Public Law 97-359 Amerasian. The affidavit is used only to sponsor individuals eligible for immigration under Public Law 97-359.

(5) An estimate of the total number of respondents and the amount of time estimated for an average respondent to respond: 50 responses at 30 minutes (.50) per response.

(6) An estimate of the total public burden (in hours) associated with the collection: 25 annual burden hours.

If you have additional comments, suggestions, or need a copy of the information collection instrument, please visit the USCIS Web site at: http://www.regulations.gov/.

We may also be contacted at: USCIS, Regulatory Products Division, Office of the Executive Secretariat, 20 Massachusetts Avenue NW., Washington, DC 20529-2020, Telephone number 202-272-8377.

Dated: February 10, 2012.
William Bacon,
Deputy, Office of the Executive Secretariat, U.S. Citizenship and Immigration Services, Department of Homeland Security.

[FR Doc. 2012-3668 Filed 2-15-12; 8:45 am]

BILLING CODE 9111-97-P